RAILROAD RETIREMENT BOARD

Sunshine Act Meeting

Notice of Public Meeting

The meeting of the Railroad Retirement Board which was to be held on May 17, 2000, 9 a.m., at the Board's meeting room on the 8th floor of its headquarters building, 844 North Rush Street, Chicago, Illinois, 60611, has been canceled.

The person to contact for more information is Beatrice Ezerski, Secretary to the Board. Phone No. 312-751-4920.

Dated: May 15, 2000.
Beatrice Ezerski,
Secretary to the Board.

[FR Doc. 00-12607 Filed 5-16-00; 9:50 am]

BILLING CODE 7905-01-M